ENVIRONMENTAL PROTECTION AGENCY

[ER-FRL-6618-1]

Environmental Impact Statements; Notice of Availability

Responsible Agency: Office of Federal Activities, General Information (202) 564-7167 or www.epa.gov/oeca/ofa.

Weekly receipt of Environmental Impact Statements

Filed May 07, 2001 Through May 11, 2001

Pursuant to 40 CFR 1506.9.

EIS No. 010164, Draft EIS, AFS, MT, Little Bear-Wilson Timber Sale and Road Decommission Project, Implementation, Gallatin Range, Gallatin National Forest, Bozeman Ranger District, Gallatin County, MT, Comment Period Ends: July 02, 2001, Contact: Tim Hancock (406) 522-2554.

EIS No. 010165, Draft EIS, AFS, UT, Flat Canyon Federal Coal Lease Tract (UTU-77114), Application for Learning, Manti-La Sal National Forest, Ferron-Price Ranges District, Sanpete and Emery Counties, UT, Comment Period Ends: July 02, 2001, Contact: Stan Perks (801) 539-4038. The US Department of Agriculture Forest Service and US Department of Interior Bureau of Land Management are Joint Lead Agencies for this project.

EIS No. 010166, Draft EIS, NPS, VA, Green Spring Colonial National Historical Park Management Plan, Implementation, James City County, VA, Comment Period Ends: July 11, 2001, Contact: Alec Gould (757) 898-3400.

EIS No. 010167, Draft EIS, AFS, UT, WY, Wasatch-Cache National Forest Revised Land and Resource Management Plan, Implementation, several counties, UT and Uinta County, WY, Comment Period Ends: September 04, 2001, Contact: Jack Blackwell (801) 524-3908.

EIS No. 010168, Final EIS, AFS, MT, Knox-Brooks Timber Sales and Road Rehabilitation, Implementation, Lola National Forest, Super Ranger District, Mineral County, MT, Wait Period Ends: June 18, 2001, Contact: Bruce Erickson (406) 822-3957.

EIS No. 010169, Draft EIS, FTA, NC, Phase I Regional Rail System Improvements, Durham to Raleigh to North Raleigh, Implementation, Durham and Wake Counties, NC, Comment Period Ends: July 20, 2001, Contact: Alex McNeil (404) 562-3511.

EIS No. 010170, Final EIS, FHW, CA, San Francisco—Oakland Bay Bridge, East Span Seismic Safety Project, Connection between I-80 Yerba Buena Island and Oakland, US Coast Guard Permit and COE Section 404 Permit, San Francisco and Alameda Counties, CA, Wait Period Ends: June 18, 2001, Contact: C. Glenn Clinton (916) 498-5020.

EIS No. 010171, Draft EIS, FTA, CA, San Fernando Valley East-West Transit Corridor Project, Bus Rapid Transit (BRT) on former Burbank/ Chandler Southern Pacific Rail Right-of-Way, Development and Implementation, Los Angeles County. CA , Comment Period Ends : July 03, 2001, Contact: Ervin Poka (213) 202-3950.

EIS No. 010172, Draft EIS, FHW, MD, MD-210 (Indian Head Highway) Multi-Modal Study, MD-210 Improvements between I-95/I-495 (Capitol Beltway) and MD-228 Funding and US COE Section 404 Permit Issuance, Prince George's County, MD , Comment Period Ends: September 23, 2001, Contact: Nelson Castellanos (410) 962-4342.

EIS No. 010173, Draft EIS, USN, CA, Point Molate Property Naval Fuel Depot (NFD) for the Disposal and Reuse, Implementation, Fleet and Industrial Supply Center, City of Richmond, Contra Costa County, CA , Comment Period Ends: July 02, 2001, Contact: Roberta Montana (619) 532-0942.

Amended Notices

EIS No. 010088, Draft EIS, FHW, NB, Lincoln South and East Beltways Project, To Complete a Circumferential Transportation System linking I-80 on the north and U.S.77 on the west, Funding, COE 404 Permit, Lancaster County, NB, Comment Period Ends: June 15, 2001, Contact: Edward Kosola (402) 437-5973. Revision of FR Notice Published on 03/23/2001: CEQ Review Period Ending 05/07/2001 has been Extended to 06/15/2001.

EIS No. 010159, Draft Supplement, DOE, NV, Geologic Repository for the Disposal of Spent Nuclear Fuel and High-Level Radioactive Waste, Construction, Operation, Monitoring and Eventually Closing a Geologic Repository at Yucca Mountain, Updated and Additional Information, Nye County, NV , Comment Period Ends: June 25, 2001, Contact: Jane R. Summerson (702) 794-1493. Revision of FR notice published on 05/11/2001: Correction to Title.

Dated: May 15, 2001.
Joseph C. Montgomery,
Director, NEPA Compliance Division, Office of Federal Activities.

[FR Doc. 01-12570 Filed 5-17-01; 8:45 am]

BILLING CODE 6560-50-P